DEPARTMENT OF ENERGY

Federal Energy Regulatory Commission

[Project No. 2816-050; Project No. 12766-007]

North Hartland, LLC; Green Mountain Power Corporation; Notice of Availability of Environmental Assessment

In accordance with the National Environmental Policy Act of 1969 and the Federal Energy Regulatory Commission's (Commission) regulations, 18 CFR part 380, the Office of Energy Projects has reviewed the application for a new license for the North Hartland Hydroelectric Project No. 2816 (North Hartland Project), and the application for a new license for the Clay Hill Road Line 66 Transmission Project No. 12766 (Clay Hill Project), and has prepared an Environmental Assessment (EA) for the projects. The North Hartland Project is on the Ottauquechee River in Windsor County, Vermont, and occupies 20.8 acres of federal land administered by the U.S. Army Corps of Engineers. The Clay Hill Project serves as part of the primary transmission line for the North Hartland Project, and is located along Clay Hill Road in Windsor County, Vermont.

The EA contains staff's analysis of the potential environmental effects of the projects and concludes that licensing the projects, with appropriate environmental protective measures, would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

Any comments should be filed within 45 days from the date of this notice. The Commission strongly encourages electronic filings. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2816-050 for the North Hartland Project and/or docket number P-12766-007 for the Clay Hill Project.

For further information, contact Bill Connelly at (202) 502-8587 or by email at william.connelly@ferc.gov.

Dated: April 28, 2022.
Debbie-Anne A. Reese,
Deputy Secretary.

[FR Doc. 2022-09545 Filed 5-3-22; 8:45 am]

BILLING CODE 6717-01-P